DEPARTMENT OF HEALTH AND HUMAN SERVICES

Administration for Children and Families

Proposed Information Collection Activity; Comment Request

Proposed Projects: Trafficking Victim Assistance Program Data Collection.

Title: Trafficking Victim Assistance Program Data Collection.

OMB No.: 0970-0467.

Description: The Trafficking Victims Protection Act of 2000 (TVPA), as amended, authorizes the Secretary of Health and Human Services to expand benefits and services to foreign nationals in the United States who are victims of severe forms of trafficking in persons. Such benefits and services may include services to assist potential victims of trafficking (Section 107(b)(1)(B) of the TVPA, 22 U.S.C. 7105(b)(1)(B)). The Office on Trafficking in Persons (OTIP) awards cooperative agreements to organizations to provide case management services to foreign national victims of human trafficking pursuing HHS Certification and their qualified family members. The awarded organizations must provide comprehensive case management and referrals to qualified persons, either directly through its own organization or by partnering with other organizations through subcontracts or both.

Persons qualified for services under this grant are victims of a severe form of trafficking in persons who have received HHS Certification or Eligibility, potential victims of a severe form of trafficking who are actively seeking to achieve HHS Certification or Eligibility, family members with derivative T visas, and minor dependent children of foreign victims of severe forms of trafficking in persons or potential victims of trafficking.

To help measure each grant project's performance and the success of the program in assisting the target population, to assist grantees to assess and improve their projects over the course of the project period, and to fulfill instructions for a consolidated report to several committees of the House of Representatives, OTIP proposes to collect information from TVAP grantees on a monthly, quarterly, or annual basis, including participant demographics (e.g., age, sex, and country of origin), types of trafficking experienced (sex, labor, or both), types of enrollment, types of services provided, types of health screening and medical services received, the names of the entities providing medical services, the amount of money expended on each type of service provided, the amount of money expended on each type of client enrollment, types of partnerships developed through the grant, and the types of training and technical assistance provided to subrecipient organizations or other partners.

This information will help OTIP assess the project's performance in assisting foreign national victims of trafficking and will better enable TVAP grantees to meet the program objectives and to monitor and evaluate the quality of case management services provided by any subcontractors. OTIP will also include aggregate information in reports to Congress to help inform strategies and policies to assist foreign national victims of human trafficking.

Respondents: Trafficking Victim Assistance Program Grantees.

Annual Burden Estimates
Instrument | Number of respondents | Number of responses per respondent | Average burden hours per response | Total burden hours
Client Characteristics and Enrollment Form | 1100 | 1 | .3 | 330
Client Service Use and Delivery Form | 1100 | 1 | .25 | 275
Client Case Closure Form | 1100 | 1 | .167 | 183.7
Barriers to Service Delivery and Monitoring Form | 91 | 5 | .167 | 75.985
TVAP Spending Form | 261 | 1 | .75 | 195.75
Partnership Development Enrollment Form | 261 | 1 | .25 | 65.25
Partnership Development Exit Form | 261 | 1 | .083 | 21.663
Training Form | 261 | 4 | .5 | 522
Technical Assistance Form | 261 | 4 | .5 | 522

Estimated Total Annual Burden Hours: 2,191.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-27185 Filed 12-14-18; 8:45 am]

BILLING CODE 4184-47-P